DEPARTMENT OF THE INTERIOR

National Park Service

[NPS-WASO-NRNHL-DTS#-28697; PPWOCRADI0, PCU00RP14.R50000]

National Register of Historic Places; Notification of Pending Nominations and Related Actions

AGENCY: National Park Service, Interior.

ACTION: Notice.

SUMMARY: The National Park Service is soliciting comments on the significance of properties nominated before August 10, 2019, for listing or related actions in the National Register of Historic Places.

DATES: Comments should be submitted by September 12, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before August 10, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

Riverside County

Wexler House, 1272 E Verbena Dr., Palm Springs, SG100004404

Smith, Maurice, and Dinah Shore House, 432 Hermosa Place, Palm Springs, SG100004405

San Francisco County

Swedish American Hall, 2168-2174 Market St., San Francisco, SG100004413

IOWA

Black Hawk County

Walnut Street Historic District, Franklin St., E 4th St., Argyle St., and E 2nd St., Waterloo, SG100004414

NEW HAMPSHIRE

Carroll County

New England Masonic Charitable Institute, 30 Town House Rd., Effingham, SG100004415

Hillsborough County

Sainte Marie Roman Catholic Church Parish Historic District, 378 Notre Dame Ave., 133 Wayne St., 279 & 284 Cartier St., Manchester, SG100004416

NEW YORK

Monroe County

Powers Building and Powers Hotel (Boundary Increase), 16-42 W Main St., 20-56 Fitzhugh St., Rochester, BC100004417

Sullivan County

Hasbrouck Stone House, 282 Hasbrouck Rd., Woodbourne, SG100004419

OHIO

Cuyahoga County

Warner & Swasey Company Building, 5701 Carnegie Ave., Cleveland, SG100004410

OKLAHOMA

McClain County

Harris Palace Store, 214 E Ripley St., Byars, SG100004399

Oklahoma County

Oklahoma City Schools Administration Building, 400 N Walnut Ave., Oklahoma City, SG100004400

Trinity United Presbyterian Church, 2301 NE 23rd St., Oklahoma City, SG100004401

SOUTH CAROLINA

Anderson County

Ginn, Robert J. and Lula, House, 106 Webb St., Anderson, SG100004408

Charleston County

Mosquito Beach Historic District, Mosquito Beach Rd., Charleston vicinity, SG100004409

UTAH

Emery County

Castle Dale Bridge, Approx. 200 S Center St., Castle Dale vicinity, SG100004394

Salt Lake County

Steiner American Building, 505 E South Temple, Salt Lake City, SG100004393

Weber County

Weber County Main Library, 2464 Jefferson Ave., Ogden, SG100004395

WISCONSIN

Rock County

Milwaukee and Emerson Residential Historic District, Bounded by Oakwood Ave., Sherwood Ave., Bushnell St., and Central Ave., Beloit, SG100004387

In the interest of preservation, a SHORTENED comment period has been requested for the following resource:

GEORGIA

Fulton County

Atlanta-Fulton Central Library, 1 Margaret Mitchell Square/126 Carnegie Way NW, Atlanta, SG100004411, Comment period: 3 days

A request for removal has been made for the following resources:

IOWA

Bremer County

Green Mill Ford Bridge, (Highway Bridges of Iowa MPS), County road over Cedar R., Janesville vicinity, OT98000760

Howard County

South Ward School, 500 S Elm St., Cresco, OT82000408

Humboldt County

Des Moines River Bridge, (Highway Bridges of Iowa MPS), IA 3 over West Fork of Des Moines R., Humboldt vicinity, OT98000522

Warren County

Warren County Court House, (PWA-Era County Courthouses of IA MPS), 115 N Howard Ave., Indianola, OT03000818

Wright County

Goldfield Bridge, (Highway Bridges of Iowa MPS), Oak St. over Boone R., Goldfield, OT98000456

Additional documentation has been received for the following resources:

ALABAMA

Baldwin County

Foley Downtown Historic District, Parts of Alston, N & S McKenzie, AL 98, E & W Laurel, Myrtle, Rose, and W. Orange Foley, AD04001496

LOUISIANA

Orleans Parish

McDonogh 19 Elementary School, 5909 St. Claude Ave., New Orleans, AD16000672

NEW YORK

Monroe County

Powers Building, W Main and State Sts., Rochester, AD73001204

Nominations submitted by Federal Preservation Officers:

The State Historic Preservation Officer reviewed the following nominations and responded to the Federal Preservation Officer within 45 days of receipt of the nominations and supports listing the properties in the National Register of Historic Places.

IDAHO

Ada County

Federal Building and U.S. Courthouse, 550 W Fort St., Boise, SG100004402

MONTANA

Beaverhead County

Canyon Resort Airways Beacon, (Sentinels of the Airways: Montana's Airway Beacon System, 1934-1979 MPS), Above Pipe Organ Rock, 15 mi. S of Dillon, Dillon vicinity, MP100004403

Henneberry, William F., Homestead, 13 mi. SW of Dillon, Dillon vicinity, SG100004412

Authority: Section 60.13 of 36 CFR part 60.

Dated: August 12, 2019.
Julie H. Ernstein,
Supervisory Archeologist, National Register of Historic Places/National Historic Landmarks Program.

[FR Doc. 2019-18475 Filed 8-27-19; 8:45 am]

BILLING CODE 4312-52-P